DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Evaluation of the Addiction Technology Transfer Centers (ATTC)—NEW

In recognition that systematic evaluation of this and other government programs are part of good management and accountability and will inform program improvement efforts, the Substance Abuse and Mental Health Services Administration's Center for Substance Abuse Treatment (CSAT) will conduct an independent evaluation of the ATTC Program. The purpose of the ATTC Program is to develop and strengthen the workforce that provides addictions treatment services to 23 million Americans age 12 and older who need treatment for alcohol or illicit drug problems. In partnership with Single State Authorities (SSAs), treatment provider associations, addictions counselors, multidisciplinary professionals, faith and recovery community leaders, addiction educators, and other stakeholders, the ATTCs assess the training and development needs of the substance use disorders workforce, and develop and conduct training and technology transfer activities to meet these needs. Particular emphasis is on raising awareness of and improving skills in using evidence-based and promising treatment/recovery practices in recovery-oriented systems of care.

The goals of the evaluation are to: (1) Identify the successes of technology transfer efforts and build upon them in the future; (2) share lessons learned across ATTC regions for the enhancement of all regions' activities; and (3) identify region-specific and cross-regional processes and outcomes. The evaluation will consist of three studies. The Planning and Partnering Study will collect data on the processes and procedures related to the planning, partnering, and provision of ATTC services/activities. The Customer Satisfaction and Benefit Study will collect data on the extent to which ATTC services/activities are satisfactory and to meet the needs of identified partners and other program stakeholders. The Change in Practice Study will collect data to determine the extent to which ATTCs have enhanced the competencies, including cultural competencies, of specialty addictions treatment practitioners, paraprofessionals, and multidisciplinary professionals to strengthen the workforce and whether the ATTCs have provided these individuals with new skills that have led to changes in treatment practice.

This will be the first independent, national evaluation of the ATTC Program since the program was first funded by SAMHSA in 1993. The evaluation approach will be formative and participatory, and the national evaluation team will collaborate with the ATTCs, CSAT, and other program stakeholders to implement the planned data collection activities. Surveys, interviews, and focus groups will be conducted over a three-year period with eight (8) main stakeholder groups who use or are among the target audiences for the ATTCs' services or are otherwise associated with the ATTC program (e.g., as ATTC partners): ATTC directors and staff; customers/recipients of ATTC services/activities; ATTC Advisory Board members; partners who collaborate with ATTCs in planning and delivering ATTC services/activities; directors of state substance abuse agencies; directors of treatment provider and recovery organizations and directors of provider associations; addiction educators; and cultural leaders involved in addictions treatment. The data collection instruments have been constructed to include information related to each stakeholder group, as identified above, and are expected to yield diverse perspectives related to the processes and outcomes of the ATTC Program. As a condition of their grant, each ATTC was required to budget .25 FTE to participate in data collection for the national evaluation.

The evaluation will collect new data that is necessary for the evaluation and will also use data and information collected under existing program requirements. (Each ATTC is required to submit GPRA data at the end of each ATTC training and technical assistance event and meeting/conference and 30 days after each event; each ATTC will conduct a workforce survey; and each ATTC also submits an annual report. None of the new data collection activities will be redundant with these existing reporting requirements.) CSAT plans the following new data collection activities:

(1) Semi-structured interviews with ATTC directors and other ATTC staff (e.g., co-directors, ATTC technology transfer specialists, ATTC evaluator) that are conducted during site visits to each ATTC. The purpose of the interviews will be to collect information on:

a. Goals and objectives of the ATTC.

b. Regional priorities and needs for technology transfer services.

c. Processes used to plan ATTC programs and services.

d. Collaborative relationships with organizations within and outside the ATTC region.

e. Organizational structure and staffing of the ATTC.

f. ATTC funding and leveraging of resources.

g. Efforts to coordinate services with other providers of training, technical assistance, or technology transfer services within the region.

h. Technology transfer strategies and services implemented by the ATTC to promote adoption of culturally appropriate, evidence-based, and promising practices.

i. Implementation and use of workforce surveys.

j. Participation in cross-regional and network-wide activities.

k. Background characteristics of the respondent.

(2) Focus groups with ATTC staff (including field staff who are assigned to work with specific states and may work in different locations throughout the ATTC region), to include information on:

a. Regional priorities and needs for technology transfer services.

b. Processes used to plan ATTC programs and services.

c. Efforts to coordinate services with other providers of technology transfer services within the region.

d. Technology transfer strategies and services implemented by the ATTC to promote adoption of culturally appropriate, evidence-based and promising practices.

e. Background characteristics of focus group participants.

(3) Telephone interviews with a sample of stakeholders of the ATTC program, including state substance abuse directors (SSAs), ATTC Advisory Board members, addiction educators, directors of treatment provider associations, cultural leaders, and leaders of recovery associations. The purpose of the interviews will be to collect information on:

a. Collaboration with ATTCs for program planning and service delivery.

b. Awareness of ATTC activities and services.

c. Utilization of ATTC services.

d. Quality of ATTC services.

e. Changes in awareness, skills, practices, or systems as a result of ATTC services.

f. Gaps in ATTC service delivery.

g. Background characteristics of the respondent.

(4) Survey of ATTC Regional Advisory Board members to include questions related to:

a. Composition of the Advisory Board.

b. Stakeholder representation and representation of the diversity within the region on the Advisory Board.

c. Role of the ATTC Advisory Board.

d. Frequency of meetings and other communications (e.g., conference calls).

e. Characteristics of communications and interactions between the ATTC and Advisory Board members.

f. Processes to assess regional needs and priorities.

g. Consideration/utilization of Advisory Board recommendations by the ATTC.

h. Satisfaction with ATTC planning and priority setting processes.

i. Background characteristics of the respondent.

(5) Survey of ATTC customers (Customer Satisfaction and Benefit Survey) to include questions related to:

a. Background characteristics of ATTC customers/respondents.

b. Participation in different types of ATTC activities (e.g., training, technical assistance, meetings/conferences, product development, etc.).

c. Participation in ATTC activities focusing on specific topics (e.g., evidence-based practices, clinical supervision, workforce development).

d. Perceived objective of each ATTC activity (awareness raising, skill building, change in practice).

e. Satisfaction with and knowledge gained from ATTC activities.

f. Changes in awareness, skills, or practices as a result of participation in ATTC activities .

(6) Evidence-Based Practices Critical Action Surveys of a sample of individuals who participated in ATTC initiatives related to Clinical Supervision, Motivational Interviewing, and Treatment Planning MATRS. The web-based surveys will collect information on:

a. Prior training related to the evidence-based practice.

b. Prior experience using the evidence-based practice.

c. Implementation experience/changes in practice.

d. Level of proficiency related to the evidence-based practice.

e. Factors impacting ability to change practice.

(7) Telephone interviews (Success Case Interviews) with participants in the Evidence-Based Critical Action Surveys who report the greatest and least amount of success in implementing the new evidence-based practice. The interviews will collect information on:

a. Application of what was learned in clinical or organizational practice.

b. Illustrative examples of what occurred as a result of changes in practice.

c. Characteristics of the training that made it useful.

d. Barriers to application of what was learned.

(8) A Clinician Self-Assessment of the extent to which the clinician has incorporated the skills associated with Motivational Interviewing into their clinical practice, to include information on:

a. Motivational Interviewing style.

b. Extent to which the clinician has implemented Motivational Interviewing skills.

c. Background characteristics of the respondent.

(9) Survey of directors of addictions treatment provider organizations (Survey of Organizational Readiness) who participated in the Evidence-Based Critical Action Survey related to the Treatment Planning MATRS initiative, to collect information on:

a. Characteristics of the treatment provider unit or organization.

b. Issues for which the organization needs external technical assistance or guidance.

c. Issues for which the staff needs external technical assistance or guidance.

d. Source of current pressures for making organizational change.

e. Background characteristics of the respondent.

The burden estimate for conducting the data collection activities for the national evaluation of the ATTC Program is as follows:

Name of instrument/respondent | Number of respondents | Responses per respondent | Total responses | Hours per response | Total burden hours
Site Visit Interview Protocol:
ATTC Directors | 15 | 1 | 15 | 2 | 30
ATTC Staff | 38 | 1 | 38 | 1 | 38
Focus Group Protocol:
ATTC Field Staff | 35 | 1 | 35 | 2 | 70
Key Informant Interview Protocol:
SSA Directors | 55 | 1 | 55 | 1 | 55
ATTC Advisory Board Members | 45 | 1 | 45 | 1 | 45
Provider Association Directors | 43 | 1 | 43 | 1 | 43
Addiction Educators | 70 | 1 | 70 | 1 | 70
Treatment Agency Directors | 42 | 1 | 42 | 1 | 42
Other Key Advisors | 42 | 1 | 42 | 1 | 42
Collaborative Functioning Survey:
ATTC Advisory Board Members | 450 | 2 | 900 | 0.5 | 450
Customer Satisfaction and Benefit Survey:
SSA Directors | 55 | 1 | 55 | 0.5 | 28
Provider Association Directors | 43 | 1 | 43 | 0.5 | 22
Addiction Educators | 158 | 1 | 158 | 0.5 | 79
Treatment Agency Directors | 700 | 1 | 700 | 0.5 | 350
ATTC Activity Participants | 3,000 | 1 | 3,000 | 0.5 | 1,500
Other Unique Regional Partners | 168 | 1 | 168 | 0.5 | 84
Evidence-Based Critical Action Surveys:
ATTC Clinical Supervision Training Participants | 240 | 1 | 240 | 0.5 | 120
ATTC Motivational Interviewing Training Participants | 360 | 1 | 360 | 0.5 | 180
ATTC Treatment Planning MATRS Treatment Participants (Treatment Agency Directors) | 240 | 1 | 240 | 0.5 | 120
Success Case Interview Protocols:
ATTC Clinical Supervision Training Participants | 48 | 1 | 48 | 1 | 48
ATTC Motivational Interviewing Training Participants | 72 | 1 | 72 | 1 | 72
ATTC Treatment Planning MATRS Training Participants (Treatment Directors) | 48 | 1 | 48 | 1 | 48
Clinician Self-Assessment Form on Motivational Interviewing | 72 | 12 | 864 | 0.5 | 432
Survey of Organizational Readiness:
Treatment Agency Directors | 240 | 1 | 240 | 0.5 | 120
Total | 6,294 |  | 7,521 |  | 4,088

Written comments and recommendations concerning the proposed information collection should be sent by May 1, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 24, 2008.
Elaine Parry,
Acting Director, Office of Program Services.

[FR Doc. E8-6581 Filed 3-31-08; 8:45 am]

BILLING CODE 4162-20-P